COMMITTEE FOR THE IMPLEMENTATION OF TEXTILE AGREEMENTS

Adjustment of Import Limits for Certain Cotton, Man-Made Fiber, Silk Blend and Other Vegetable Fiber Textiles and Textile Products Produced or Manufactured in India; Correction

October 14, 2003.

In the letter to the Commissioner, Bureau of Customs and Border Protection published on July 29, 2003 (68 FR 44528), on page 44528, 2nd column, in the table listing import restrain limits, the limit of 4,017,873 dozen for Category 341-Y is in error. Please replace with the correct amount of 3,844,689 dozen.

James C. Leonard III,
Chairman, Committee for the Implementation of Textile Agreements.

[FR Doc. 03-26423 Filed 10-17-03 8:45 am]

BILLING CODE 3510-DR-S